SECURITIES AND EXCHANGE COMMISSION

[SEC File No. 270-776, OMB Control No. 3235-0730]

Submission for OMB Review; Comment Request

Extension:

Form N-PORT

Notice is hereby given that, pursuant to the Paperwork Reduction Act of 1995 (44 U.S.C. 3501 et seq.), the Securities and Exchange Commission (the “Commission”) has submitted to the Office of Management and Budget a request for extension of the previously approved collection of information discussed below.

The title for the collection of information is “Form N-PORT under the Investment Company Act of 1940.” Form N-PORT requires funds to report portfolio holdings information in a structured, XML format. The form is filed electronically using the Commission's electronic filing system (Electronic Data Gathering, Analysis and Retrieval or “EDGAR”). The purpose of Form N-PORT is to satisfy the filing and disclosure requirements of Section 30(b) of the Investment Company Act, and of Rule 30b1-9 thereunder.

We estimate that 11980 entities will be required to submit reports on Form N-PORT. We estimate that 35% of funds will file reports on Form N-PORT in house and the remaining 65% of funds will retain the services of a third party to prepare and file reports on Form N-PORT on the fund's behalf. The estimated annual hourly burden associated with Form N-PORT 1,839,903 hours for an average of 153.6 hours per entity. The total annual internal time cost associated with Form N-PORT is $654,658,288. The total annual external cost associated with Form N-PORT is $113,858,133.

The requirements of this collection of information are mandatory. Responses will not be kept confidential. An agency may not conduct or sponsor, and a person is not required to respond to a collection of information unless it displays a currently valid control number.

The public may view the background documentation for this information collection at the following website, www.reginfo.gov. Comments should be directed to: (i) Desk Officer for the Securities and Exchange Commission, Office of Information and Regulatory Affairs, Office of Management and Budget, Room 10102, New Executive Office Building, Washington, DC 20503, or by sending an email to: Lindsay.M.Abate@omb.eop.gov; and (ii) David Bottom, Director/Chief Information Officer, Securities and Exchange Commission, c/o Cynthia Roscoe, 100 F Street NE, Washington, DC 20549 or send an email to: PRA_Mailbox@sec.gov. Comments must be submitted to OMB within 60 days of this notice.

Dated: July 15, 2021.
J. Matthew DeLesDernier,
Assistant Secretary.

[FR Doc. 2021-15432 Filed 7-20-21; 8:45 am]

BILLING CODE 8011-01-P